ENVIRONMENTAL PROTECTION AGENCY

[FRL-9234-8]

Gulf of Mexico Executive Council Notice of Charter Renewal

AGENCY: Environmental Protection Agency.

ACTION: Notice of Charter Renewal.

SUMMARY: Notice is hereby given that the Environmental Protection Agency (EPA) has determined that in accordance with the provisions of the Federal Advisory Committee Act (FACA), 5 U.S.C. App. 2, the Gulf of Mexico Executive Council (GMEC) is a necessary committee which is in the public interest. Accordingly, GMEC will be renewed for an additional two year period. The purpose of the GMEC is to provide advice and recommendations to the Administrator of EPA on issues associated with plans to improve and protect the water quality and living resources of the Gulf of Mexico.

FOR FURTHER INFORMATION CONTACT: Gloria Car, Designated Federal Officer, Gulf of Mexico Program Office (Mail Code: EPA/GMPO), Stennis Space Center, MS, 39529, Telephone (228) 688-2421, or car.gloria@epa.gov.

Dated: November 24, 2010.
Peter S. Silva,
Assistant Administrator, Office of Water.

[FR Doc. 2010-30295 Filed 12-1-10; 8:45 am]

BILLING CODE 6560-50-P